DEPARTMENT OF ENERGY

Federal Energy Regulatory Commission

[Project No. 2322-000]

Brookfield White Pine Hydro LLC; Notice of Authorization for Continued Project Operation

On January 31, 2020, Brookfield White Pine Hydro LLC, licensee for the Shawmut Hydroelectric Project No.2322, filed an Application for a New Major License for Shawmut Hydroelectric Project pursuant to the Federal Power Act (FPA) and the Commission's regulations thereunder. The Shawmut Hydroelectric Project is located on the Kennebec River in Kennebec and Somerset Counties, Maine.

The license for Project No. 2322 was issued for a period ending January 31, 2022.¹ Section 15(a)(1) of the FPA, 16 U.S.C. 808(a)(1), requires the Commission, at the expiration of a license term, to issue from year-to-year an annual license to the then licensee(s) under the terms and conditions of the prior license until a new license is issued, or the project is otherwise disposed of as provided in section 15 or any other applicable section of the FPA. If the project's prior license waived the applicability of section 15 of the FPA, then, based on section 9(b) of the Administrative Procedure Act, 5 U.S.C. 558(c), and as set forth at 18 CFR 16.21(a), if the licensee of such project has filed an application for a subsequent license, the licensee may continue to operate the project in accordance with the terms and conditions of the license after the minor or minor part license expires, until the Commission acts on its application. If the licensee of such a project has not filed an application for a subsequent license, then it may be required, pursuant to 18 CFR 16.21(b), to continue project operations until the Commission issues someone else a license for the project or otherwise orders disposition of the project.

¹ The Commission issued the current license for the Shawmut Project on January 5, 1981, with an effective date of February 1, 1981, and a term of 40 years, expiring on January 31, 2021. Central Maine Power Company, 14 FERC ¶ 62,004 (1981). On December 11, 2018, the license term was extended by one year to January 31, 2022. Brookfield White Pine Hydro, LLC, 165 FERC ¶ 62,152 (2018).

If the project is subject to section 15 of the FPA, notice is hereby given that an annual license for Project No. 2322 is issued to Brookfield White Pine Hydro LLC, for a period effective February 1, 2022 through January 30, 2023 or until the issuance of a new license for the project or other disposition under the FPA, whichever comes first. If issuance of a new license (or other disposition) does not take place on or before January 30, 2023, notice is hereby given that, pursuant to 18 CFR 16.18(c), an annual license under section 15(a)(1) of the FPA is renewed automatically without further order or notice by the Commission, unless the Commission orders otherwise.

If the project is not subject to section 15 of the FPA, notice is hereby given that Brookfield White Pine Hydro LLC, is authorized to continue operation of the Shawmut Hydroelectric Project, until such time as the Commission acts on its application for a new major license.

Dated: February 10, 2022.
Kimberly D. Bose,
Secretary.

[FR Doc. 2022-03333 Filed 2-15-22; 8:45 am]

BILLING CODE 6717-01-P